DEPARTMENT OF THE INTERIOR

National Park Service

[2253-665]

Notice of Inventory Completion: Yale Peabody Museum of Natural History, New Haven, CT

AGENCY: National Park Service, Interior.

ACTION: Notice.

SUMMARY: The Yale Peabody Museum of Natural History has completed an inventory of human remains in consultation with the appropriate Indian tribes and has determined that there is a cultural affiliation between the human remains and present-day Indian tribes. Representatives of any Indian tribe that believes itself to be culturally affiliated with the human remains may contact the Yale Peabody Museum of Natural History. Repatriation of the human remains to the Indian tribes stated below may occur if no additional claimants come forward.

DATES: Representatives of any Indian tribe that believes it has a cultural affiliation with the human remains should contact the Yale Peabody Museum of Natural History at the address below by May 31, 2012.

ADDRESSES: Professor Derek E.G. Briggs, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains in the possession of the Yale Peabody Museum of Natural History. The human remains were removed from the John Day River area of Grant County, OR.

This notice is published as part of the National Park Service's administrative responsibilities under NAGPRA, 25 U.S.C. 3003(d)(3). The determinations in this notice are the sole responsibility of the museum, institution, or Federal agency that has possession of the Native American human remains. The National Park Service is not responsible for the determinations in this notice.

Consultation

A detailed assessment of the human remains was made by the Yale Peabody Museum of Natural History professional staff in consultation with representatives of the Confederated Tribes of the Umatilla Indian Reservation, Oregon, and the Confederated Tribes of the Warm Springs Reservation of Oregon (hereafter referred to as “The Tribes”).

History and Description of the Remains

In 1871, human remains representing, at minimum, one individual were removed from the John Day River area in Grant County, OR, by Thomas Condon and General Crook. The remains were transferred to the Yale Peabody Museum of Natural History in February of 1872. No known individuals were identified. No associated funerary objects are present.

Based on the historical records of the recovery of the remains, museum catalog records of the remains, the geographic origin of the remains, and the description of the traditional territory of The Tribes, these human remains are believed to be culturally affiliated with The Tribes.

In 1873, human remains representing, at minimum, one individual were removed from the head of the John Day River in Grant County, OR, by Joseph Savage. The remains were transferred to the Yale Peabody Museum of Natural History in 1873. No known individuals were identified. No associated funerary objects are present.

Based on museum catalog records of the remains, the geographic origin of the remains, and the description of the traditional territory of The Tribes, these human remains are believed to be culturally affiliated with The Tribes.

In 1874, human remains representing, at minimum, three individuals were removed from the area of the John Day River in Grant County, OR, by Sam H. Snook. The remains were transferred to the Yale Peabody Museum of Natural History in 1874. No known individuals were identified. No associated funerary objects are present.

Based on museum catalog records of the remains, the geographic origin of the remains, and the description of the traditional territory of The Tribes, these human remains are believed to be culturally affiliated with The Tribes.

In 1880, Mr. Warfield and Leander Davis collected human remains representing, at minimum, three individuals near Pine Mountain, Grant County, OR. No known individuals were identified. No associated funerary objects are present.

Based on museum catalog records of the remains, the geographic origin of the remains, and the description of the traditional territory of The Tribes, these human remains are believed to be culturally affiliated with The Tribes.

Determinations Made by the Yale Peabody Museum of Natural History

Officials of the Yale Peabody Museum of Natural History have determined that:

• Pursuant to 25 U.S.C. 3001(9), the human remains described in this notice represent the physical remains of eight individuals of Native American ancestry.

• Pursuant to 25 U.S.C. 3001(2), there is a relationship of shared group identity that can be reasonably traced between the Native American human remains to The Tribes.

Additional Requestors and Disposition

Representatives of any Indian tribe that believes itself to be culturally affiliated with the human remains should contact Professor Derek E.G. Briggs, Director, Yale Peabody Museum of Natural History, P.O. Box 208118, New Haven, CT 06520-8118, telephone (203) 432-3752 before May 31, 2012. Repatriation of the human remains to The Tribes may proceed after that date if no additional claimants come forward.

The Yale Peabody Museum of Natural History is responsible for notifying The Tribes that this notice has been published.

Dated: April 26, 2012.
David Tarler,
Acting Manager, National NAGPRA Program.

[FR Doc. 2012-10494 Filed 4-30-12; 8:45 am]

BILLING CODE 4312-50-P